FEDERAL COMMUNICATIONS COMMISSION

Notice of Public Information Collection(s) Being Reviewed by the Federal Communications Commission

February 24, 2005.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before April 7, 2005. If you anticipate that you will be submitting PRA comments, but find it difficult to do so within the period of time allowed by this notice, you should advise the contact listed below as soon as possible.

ADDRESSES: Direct all Paperwork Reduction Act (PRA) comments to Judith B. Herman, Federal Communications Commission, Room 1-C804, 445 12th Street, SW., DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION: OMB Control No.: 3060-0062.

Title: Application for Authorization to Construct New or Make Changes to an Instructional Television Fixed Service and/or Response Station(s), or to Assign or Transfer Such Station(s).

Form No.: FCC Form 330.

Type of Review: Revision of a currently approved collection.

Respondents: Business or other for-profit and state, local, or tribal government.

Number of Respondents: 500.

Estimated Time Per Response: 1-3 hours.

Frequency of Response: On occasion reporting requirement.

Total Annual Burden: 500 hours.

Total Annual Cost: $750,000.

Privacy Act Impact Assessment: Not applicable.

Needs and Uses: The FCC Form 330 is used to apply for authority to construct a new or make changes in an Instructional Television Fixed (ITFS) or response station and low power relay station, or for consent to license assignment or transfer of control. The Commission is now revising this form to request additional information to complete the Universal Licensing System (ULS) data elements since ITFS has been implemented into ULS. Additional information such as the licensee's e-mail address, fax number, contact's e-mail address and fax number will be added to the form. The Commission also clarified some data elements, instructions and corrected mailing addresses and web sites.

The information is used by FCC staff to ensure that the applicant is legally, technically and otherwise qualified to become a licensee. ITFS applicants/licensees will need this information to perform the necessary analyses of the potential for harmful interference to their facility.

OMB Control No.: 3060-0391.

Title: Program to Monitor the Impacts of the Universal Service Support Mechanisms, CC Docket Nos. 98-202 and 96-45.

Form No.: N/A.

Type of Review: Revision of a currently approved collection.

Respondents: Business or other for-profit.

Number of Respondents: 210 respondents; 1,456 responses.

Estimated Time Per Response: 40 minutes (.666 hours).

Frequency of Response: Annual reporting requirement and third party disclosure requirement.

Total Annual Burden: 971 hours.

Total Annual Cost: N/A.

Privacy Act Impact Assessment: N/A.

Needs and Uses: This collection is being submitted to the OMB as a revision. The revision is due to separations reform in which the dial equipment minutes reporting categories have been eliminated. Thus, only the interstate access minutes remain to be reported reducing the overall time required for each respondent to report their required data. This information is collected by the National Exchange Carriers Association (NECA). NECA acts as the access billing agent for most small companies, and requests the data from the other companies. Prior to 2002, the data collected were: Local, intrastate toll, and interstate dial equipment minutes, interstate dial equipment minute factors, and interstate access minutes. We estimate that it should take no more than 40 minutes per study area. This is an annual report.

Federal Communications Commission.
Marlene H. Dortch,
Secretary.

[FR Doc. 05-4507 Filed 3-7-05; 8:45 am]

BILLING CODE 6712-01-P